DEPARTMENT OF AGRICULTURE

Cooperative State Research, Education, and Extension Service

Notice of Intent To Extend a Currently Approved Information Collection

AGENCY: Cooperative State Research, Education, and Extension Service, USDA.

ACTION: Notice and request for comments.

SUMMARY: In accordance with the Paperwork Reduction Act of 1995 and Office of Management and Budget (OMB) regulations at 5 CFR part 1320, this notice announces the Cooperative State Research, Education, and Extension Service's (CSREES) intention to revise and extend the currently approved information collection for the CSREES Current Research Information System (CRIS).

DATES: Written comments on this notice must be received by February 5, 2007, to be assured of consideration. Comments received after that date will be considered to the extent practicable.

ADDRESSES: You may submit comments by any of the following methods: Federal eRulemaking Portal: http://www.regulations.gov. Follow the instructions for submitting comments. E-mail: jhitchcock@csrees.usda.gov; Fax: 202-720-0857; Mail: Information Systems and Technology Management, CSREES, USDA, STOP 2216, 1400 Independence Avenue, SW., Washington, DC 20250-2216; Hand Delivery/Courier: 800 9th Street, SW., Waterfront Centre, Room 4217, Washington, DC 20024.

FOR FURTHER INFORMATION CONTACT: Jason Hitchcock, 202-720-4343.

SUPPLEMENTARY INFORMATION: Title: CSREES Current Research Information System.

OMB Number: 0524-0042.

Expiration Date of Current Approval: 05/31/2007.

Type of Request: Intent to seek approval to revise and extend an information collection for three years.

Abstract: The United States Department of Agriculture (USDA), Cooperative State Research, Education, and Extension Service (CSREES) administers several competitive, peer-reviewed research, education, and extension programs, under which awards of a high-priority are made. These programs are authorized pursuant to the authorities contained in the National Agricultural Research, Extension, and Teaching Policy Act of 1977, as amended (7 U.S.C. 3101 et seq.); the Smith-Lever Act (7 U.S.C. 341 et seq.); and other legislative authorities.

CSREES also administers several formula funded research programs. The programs are authorized pursuant to the authorities contained in the McIntire-Stennis Cooperative Forestry Research Act of October 10, 1962 (16 U.S.C. 582a-582a-7); the Hatch Act of 1887, as amended (7 U.S.C. 361a-i); Section 1445 of Public Law 95-113, the Food and Agriculture Act of 1977, as amended (7 U.S.C. 3222); and Section 1433 of Subtitle E (Sections 1429-1439), Title XIV of Public Law 95-113, as amended (7 U.S.C. 3191-3201). Each formula funded program is also subject to requirements, which were revised in March 2000, and set forth in the “Administrative Manual for the McIntire-Stennis Cooperative Forestry Research Program,” the “Administrative Manual for the Hatch Research Program,” the “Administrative Manual for the Evans-Allen Cooperative Agricultural Research Program,” and the “Administrative Manual for the Continuing Animal Health and Disease Research Program.” Copies of the administrative manuals are available online at: http://www.csrees.usda.gov/business/awards/formula.html under Regulations, Guidelines, and Policies for each formula funded research program. The Current Research Information System (CRIS) is the USDA's documentation and reporting system for ongoing agricultural, food science, human nutrition, and forestry research. CRIS forms AD-416, AD-417, AD-419, and AD-421 constitute a necessary information collection for publicly-supported research projects as set forth in requirements established in 7 CFR Parts 3400-3419 pertaining to the aforementioned authorities. This information collection is necessary in order to provide descriptive information regarding individual research activities, integrated activities, and extension activities to document expenditures and staff support for the activities, and to monitor the progress and impact of such activities.

The historical mission of CRIS, broadly stated, is to document the research activities of USDA and the State agricultural research system partners, to satisfy a variety of reporting requirements, and to provide access to research information. This mission supports one of CSREES' primary functions, as stated in the agency strategic plan, of providing program leadership to identify, develop, and manage programs to support university-based and other institutional research. The boundaries and scope of the CRIS mission are being expanded each year toward a more comprehensive purpose of documenting all of the research, education, and extension activities funded or managed by CSREES. As such, the information collected for CRIS can be utilized in an essentially unlimited number of ways for a wide array of purposes. In anticipation of the Office of Science and Technology Policy research and non-research business model requirements, CSREES is working to align this collection activity with that effort. CSREES is also revising this information collection to include the reporting information on the following Extension Activities to report using the CRIS forms: Pest Management, Farm Safety, New Technologies for Ag Extension, Youth Farm Safety Education and Certification, Federally Recognized Tribes Extension Program, Renewable Resources Extension Act, and Federal Administration. Generally, CRIS provides ready access to information through public web accessible data as well as individually requested, customized reports and services for agency officials, program leaders, administrators, and managers. The information provided helps users to keep abreast of the latest developments in agricultural, food science, human nutrition and forestry research and education; track resource utilization in specific target areas of work, plan for future activities; plan for resource allocation to research, education, and extension programs; avoid costly duplication of effort; aid in coordination of efforts addressing similar problems in different locations; and aid research, education, and extension workers in establishing valuable contacts within the agricultural community.

Descriptive information pertaining to documented projects is available to the general public as well as the research, education, and extension community contributing to CRIS. Limited financial information is available on individual grants and cooperative agreements as well as summary financial information through the CRIS Web site. A cooperating institution, including a state agricultural experiment station, state forestry school, 1862 land grant institution, or 1890 land grant institution has access to all of the data pertaining to that institution. Many institutions take advantage of this access utilizing CRIS system facilities to manage the research programs at their institution. In addition, CSREES staff members can request specialized reports directly from the CRIS staff. These requests can include financial disclosure pertaining to a particular subject area or targeted program. The nature of this type of request characterizes one of the strengths of the CRIS information collection. The system collects obligations and expenditures on individual projects; however, information can be retrieved and aggregated based on subject areas or targeted programs, and corresponding financial information can be tabulated accordingly. The inclusion of subject-based classifications and subject specific descriptive fields supports a unique retrieval capability in this system. The information can be utilized nationally, regionally, or at more detailed levels, by program leaders, budget officials, and administrators to identify resource utilization, monitor research, education, and extension activity in specific target areas, and support decision making and resource allocation, not just on individual projects, but also for specific program areas. This combination of system capabilities facilitates program evaluation, accountability, and decision making processes.

Estimate of Burden: CSREES is increasing the number of respondents from the previous approved collection by 500 for each component to account for the use of this system by several education and extension programs. No changes have been made to the burden per response from the previous approval. CSREES estimates the number of respondents for the AD-416 form will be 3,758 with an estimated response time of 3.9 hours per form, representing a total annual burden of 14,656 hours for this form. It is estimated for the AD-417 there will be 3,758 respondents with an estimated response time of .7 hours per form, representing a total annual burden of 2,631 hours. CSREES estimates that the number of respondents for the AD-419 form will be 12,267 with an estimated response time of 1.4 hours per form, representing a total annual burden of 17,174 hours. The AD-421 form is estimated to have 12,658 respondents and an estimated response time of 2.7 hours per form, representing a total annual burden for this form to be 34,177 hours. Thus, for this CRIS information collection CSREES estimates a total of 68,638 annual burden hours.

Comments: Comments are invited on: (a) Whether the proposed collection of information is necessary for the proper performance of the functions of the Agency, including whether the information will have practical utility; (b) the accuracy of the Agency's estimate of the burden of the proposed collection of information; (c) ways to enhance the quality, utility, and clarity of the information to be collected; (d) ways to minimize the burden of the collection of information on those who are to respond, including through the use of appropriate automated, electronic, mechanical, or other technological collection techniques or other forms of information technology; and (e) the expanded use of CRIS forms for education and extension programs, particularly programs that are competitive, project-based, and funded under section 3(d) of the Smith-Lever Act (7 U.S.C. 341).

Dated: November 24, 2006.
Gale Buchanan,
Under Secretary, Research, Education, and Economics.

[FR Doc. E6-20555 Filed 12-4-06; 8:45 am]

BILLING CODE 3410-22-P